INTERNATIONAL TRADE COMMISSION

[Investigation Nos. 701-TA-447 and 731-TA-1116 (Second Review)]

Circular Welded Carbon-Quality Steel Pipe From China

Determinations

On the basis of the record ¹ developed in the subject five-year reviews, the United States International Trade Commission (“Commission”) determines, pursuant to the Tariff Act of 1930 (“the Act”), that revocation of the countervailing and antidumping duty orders on circular welded carbon-quality steel pipe from China would be likely to lead to continuation or recurrence of material injury to an industry in the United States within a reasonably foreseeable time.²

¹ The record is defined in sec. 207.2(f) of the Commission's Rules of Practice and Procedure (19 CFR 207.2(f)).

² Commissioner Meredith M. Broadbent not participating.

Background

The Commission, pursuant to section 751(c) of the Act (19 U.S.C. 1675(c)), instituted these reviews on November 1, 2018 (83 FR 54936) and determined on March 11, 2019 that it would conduct expedited reviews (84 FR 17889, April 26, 2019).

The Commission made these determinations pursuant to section 751(c) of the Act (19 U.S.C. 1675(c)). It completed and filed its determinations in these reviews on June 14, 2019. The views of the Commission are contained in USITC Publication 4901 (June 2019), entitled Circular Welded Carbon-Quality Steel Pipe from China: Investigation Nos. 701-TA-447 and 731-TA-1116 (Second Review).

By order of the Commission.
Issued: June 14, 2019.
Lisa Barton,
Secretary to the Commission.

[FR Doc. 2019-12975 Filed 6-18-19; 8:45 am]

BILLING CODE 7020-02-P